DEPARTMENT OF HOMELAND SECURITY

Coast Guard

33 CFR Part 165

[Docket Number USCG-2025-0709]

RIN 1625-AA00

Safety Zone; Port Miami Main Shipping Channel, Miami, FL

AGENCY: Coast Guard, DHS.

ACTION: Notice of proposed rulemaking.

SUMMARY: The Coast Guard is proposing to establish a temporary safety zone for certain waters of the Main Shipping Channel, offshore of Port Miami, Miami, FL, in connection with the E1 World Championship high-speed electric powerboat races. This action is necessary to provide for the safety of life on these navigable waters near Port Miami, Miami, FL, and to protect personnel, vessels, and the marine environment from potential hazards associated with the race. This rulemaking would prohibit persons and vessels from being in the safety zone unless authorized by the Captain of the Port Sector Miami or a designated representative.

DATES: Comments and related material must be received by the Coast Guard on or before October 9, 2025.

ADDRESSES: You may submit comments identified by docket number USCG-2025-0709 using the Federal Docket Management System at https://www.regulations.gov. See the “Public Participation and Request for Comments” portion of the SUPPLEMENTARY INFORMATION section for further instructions on submitting comments. This notice of proposed rulemaking with its plain-language, 100-word-or-less proposed rule summary, will be available in this same docket.

FOR FURTHER INFORMATION CONTACT: If you have questions about this proposed rulemaking, call or email Lieutenant Guerschom Etienne, Waterways Management Division, U.S. Coast Guard; telephone 786-295-9051, email SectorMiamiWaterways@uscg.mil.

SUPPLEMENTARY INFORMATION:

I. Table of Abbreviations

CFR Code of Federal Regulations

DHS Department of Homeland Security

FR Federal Register

NPRM Notice of proposed rulemaking

§ Section

U.S.C. United States Code

II. Background, Purpose, and Legal Basis

On June 18, 2025, Electric Sea Racing Limited notified the Coast Guard that it will be conducting the E1 World Championship race for certain periods during each day from November 6, 2025, through November 8, 2025, described further below. The race will take place in the Main Shipping Channel, offshore of Port Miami, Miami, FL, and involve electric high-speed powerboats with up to 5 racing at a time. The Captain of the Port Sector Miami (COTP) has determined that potential hazards associated with the high-speed race would be a safety concern for participants, vessels, and public.

The purpose of this rulemaking is to protect event participants, spectators, and vessels on certain navigable waters of the Main Shipping Channel, offshore of Port Miami, Miami, FL, before, during, and after the scheduled event. The Coast Guard is proposing this rulemaking under authority in 46 U.S.C. 70034.

III. Discussion of Proposed Rule

The COTP is proposing to establish a safety zone from November 6 through November 8, 2025. It would be subject to enforcement from 10 a.m. to 6 p.m. on November 6, 2025; 9 a.m. to 5 p.m. on November 7, 2025; and 11 a.m. to 5 p.m. on November 8, 2025. Designated times for public transit through the zone would be from 10:45 a.m. to 11:30 a.m. and from 1:00 p.m. to 1:30 p.m. each day. The safety zone would cover all navigable waters within the Port Miami Main Shipping Channel beginning offshore from Terminal F and continuing northwest to approximately 400 meters offshore from the Kaseya Center. The safety zone would extend approximately one mile in length. No vessel or person would be permitted to enter the safety zone outside of the two designated windows without obtaining permission from the COTP or a designated representative. The regulatory text we are proposing appears at the end of this document.

IV. Regulatory Analyses

We developed this proposed rule after considering numerous statutes and Executive orders related to rulemaking. Below we summarize our analysis based on a number of these statutes and Executive orders.

A. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities for the following reasons. This regulation will only impact a small area for a few hours, and there are two designated times each day when vessels may pass through the zone. In addition, the Coast Guard will issue a Broadcast Notice to Marines via VHF FM marine channel 16, which will allow small entities to adjust their transit plans.

If you think that your business, organization, or governmental jurisdiction qualifies as a small entity and that this proposed rule would have a significant economic impact on it, please submit a comment (see ADDRESSES) explaining why you think it qualifies and how and to what degree this rule would economically affect it.

Under section 213(a) of the Small Business Regulatory Enforcement Fairness Act of 1996 (Pub. L. 104-121), if this proposed rule will affect your small business, organization, or governmental jurisdiction and you have questions, contact the person listed in the FOR FURTHER INFORMATION CONTACT section. Small businesses may send comments to the Small Business and Agriculture Regulatory Enforcement Ombudsman and the Regional Small Business Regulatory Fairness Boards by calling 1-888-REG-FAIR (1-888-734-3247).

B. Collection of Information

This proposed rule would not call for a new collection of information under the Paperwork Reduction Act of 1995 (44 U.S.C. 3501-3520).

C. Federalism and Indian Tribal Governments

A rule has implications for federalism under Executive Order 13132 (Federalism), if it has a substantial direct effect on the States, on the relationship between the National Government and the States, or on the distribution of power and responsibilities among the various levels of government. We have analyzed this proposed rule under that Order and have determined that it is consistent with the fundamental federalism principles and preemption requirements described in Executive Order 13132.

Also, this proposed rule does not have tribal implications under Executive Order 13175 (Consultation and Coordination with Indian Tribal Governments) because it would not have a substantial direct effect on one or more Indian tribes, on the relationship between the Federal Government and Indian tribes, or on the distribution of power and responsibilities between the Federal Government and Indian tribes. If you believe this proposed rule has implications for federalism or Indian tribes, please call or email the person listed in the FOR FURTHER INFORMATION CONTACT section.

D. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the potential effects of this proposed rule elsewhere in this preamble.

E. Environment

We have analyzed this proposed rule under Department of Homeland Security Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. This proposed rule involves a safety zone lasting 22 hours. Normally such actions are categorically excluded from further review under paragraph L60(a) of Appendix A, Table 1 of DHS Instruction Manual 023-01-001-01, Rev. 1. A preliminary Record of Environmental Consideration supporting this determination is available in the docket. For instructions on locating the docket, see the ADDRESSES section of this preamble. We seek any comments or information that may lead to the discovery of a significant environmental impact from this proposed rule.

V. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments through the Federal Docket Management System at www.regulations.gov. To do so, go to https://www.regulations.gov, type USCG-2025-0709 in the search box and click “Search.” Next, look for this document in the Search Results column, and click on it. Then click on the Comment option. If you cannot submit your material by using https://www.regulations.gov, call or email the person in the FOR FURTHER INFORMATION CONTACT section of this proposed rule for alternate instructions.

Viewing material in docket. To view documents mentioned in this proposed rule as being available in the docket, find the docket as described in the previous paragraph, and then select “Supporting & Related Material” in the Document Type column. Public comments will also be placed in our online docket and can be viewed by following instructions on the https://www.regulations.gov Frequently Asked Questions web page.

We review all comments received.

Personal information. We accept anonymous comments. Comments we post to www.regulations.gov will include any personal information you have provided. For more about privacy and submissions to the docket in response to this document, see DHS's eRulemaking System of Records notice (85 FR 14226, March 11, 2020).

List of Subjects in 33 CFR Part 165

Harbors, Marine safety, Navigation (water), Reporting and recordkeeping requirements, Security measures, Waterways.

For the reasons discussed in the preamble, the Coast Guard is proposing to amend 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.4.

2. Add § 165.T07-0709 to read as follows:

§ 165.T07-0709 Safety Zone; Intracoastal Waterway, Miami, FL.

(a) Location. The following area is a safety zone: All waters of the Port Miami Main Shipping Channel, from surface to bottom, encompassed by a line connecting the following points beginning at 25°47′0″ N, 80°10′40″ W, thence to 25°47′01.6″ N, 80°10′50.3″ W, thence to 25°46′57.2″ N, 80°10′50.3″ W, thence to 25°46′51.8″ N, 80°10′37.8″ W, thence to 25°46′46.2″ N, 80°10′24.3″ W, thence to 25°46′51.0″ N, 80°10′20.5″ W and along the shoreline back to the beginning point. These coordinates are based on WGS 84 coordinates.

(b) Definitions. As used in this section, designated representative means a Coast Guard Patrol Commander, including a Coast Guard coxswain, petty officer, or other officer operating a Coast Guard vessel and a Federal, State, and local officer designated by or assisting the Captain of the Port Sector Miami (COTP) in the enforcement of the safety zone.

(c) Regulations. (1) Under the general safety zone regulations in subpart C of this part, you may not enter the safety zone described in paragraph (a) of this section unless authorized by the COTP or the COTP's designated representative.

(2) To seek permission to enter, contact the COTP or the COTP's representative by contacting Sector Miami's Command Center at 305-535-4300. Those in the safety zone must comply with all lawful orders or directions given to them by the COTP or the COTP's designated representative.

(d) Enforcement periods. This section will be enforced from 10 a.m. to 6 p.m. on November 6, 2025; 9 a.m. to 5 p.m. on November 7, 2025; and 11 a.m. to 5 p.m. on November 8, 2025.

Dated: September 19, 2025.
Christian J. Barger,
Captain, U.S. Coast Guard, Acting Captain of the Port Sector Miami.

[FR Doc. 2025-18467 Filed 9-23-25; 8:45 am]

BILLING CODE 9110-04-P